DEPARTMENT OF THE INTERIOR

Bureau of Indian Affairs

Colorado River Tribe—Health and Safety Code, Article 2—Liquor

AGENCY: Bureau of Indian Affairs, Interior.

ACTION: Notice.

SUMMARY: This notice publishes an amendment to the Colorado River Tribal Health and Safety Code, Article 2, Section 2-403(12) “ Liquor. The code regulates and controls the possession, sale and consumption of liquor within the Colorado River Tribe's Reservation. The land is located on trust land and this Code allows for the possession and sale of alcoholic beverages within the Colorado River Tribe's Reservation and will increase the ability of the tribal government to control the tribe's liquor distribution and possession, and at the same time will provide an important source of revenue for the continued operation and strengthening of the tribal government and the delivery of tribal services.

EFFECTIVE DATE: This Ordinance is effective on June 30, 2005.

FOR FURTHER INFORMATION CONTACT: Sharlot Johnson, Western Regional Office, Bureau of Indian Affairs, Division of Tribal Government, P.O. Box 10, Phoenix, AZ 85001, Telephone 602-379-6786; or Ralph Gonzales, Office of Tribal Services, 1951 Constitution Avenue, NW., Mail Stop 320-SIB, Washington, DC 20240; Telephone (202) 513-7629.

SUPPLEMENTARY INFORMATION: Pursuant to the Act of August 15, 1953, Pub. L. 83-277, 67 Stat. 586, 18 U.S.C. 1161, as interpreted by the Supreme Court in Rice v. Rehner, 463 U.S. 713 (1983), the Secretary of the Interior shall certify and publish in the Federal Register notice of adopted liquor ordinances for the purpose of regulating liquor transactions in Indian country. The Colorado River Tribal Council adopted this amendment to Article 2 of the Health and Safety Code by Resolution No. 04/05 on November 15, 2004. The purpose of this Code is to govern the sale, possession and distribution of alcohol within the Colorado River Tribe's Reservation. This notice is published in accordance with the authority delegated by the Secretary of the Interior to the Principal Deputy Assistant Secretary—Indian Affairs. I certify that this amendment to Article 2, Section 2-403(12) of the Health and Safety Code, of the Colorado River Tribe, was duly adopted by the Tribal Council on November 15, 2004.

Dated: June 13, 2005.
Michael D. Olsen,
Acting Principal Deputy Assistant Secretary—Indian Affairs.

The amendment to Article 2, Section 2-403(12) of the Colorado River Tribe's Health and Safety Code reads as follows:

(12) “For a Class 1, Class 2, Class 3, Class 4 licensee, or his employee, to sell or give any liquor to any person on the licensed premises between the hours of two o'clock a.m. and six o'clock a.m., Mondays through Saturdays, or two o'clock a.m. through ten o'clock a.m. on Sundays, on the Arizona side of the Reservation, or between the hours of two o'clock a.m. and six o'clock a.m. Pacific Standard or Daylight time, which ever is then generally in effect in California, on the California side or the Reservation, or permit the consumption of liquor on the licensed premises in those places during those hours and those days:” and

[FR Doc. 05-11984 Filed 6-16-05; 8:45 am]

BILLING CODE 4310-4J-P